DEPARTMENT OF ENERGY

Federal Energy Regulatory Commission

[Docket No. EL16-21-000]

C.P. Crane LLC; Notice of Institution of Section 206 Proceeding and Refund Effective Date

On December 29, 2015, the Commission issued an order in Docket No. EL16-21-000, pursuant to section 206 of the Federal Power Act (FPA), 16 U.S.C. 824e (2012), instituting an investigation into the justness and reasonableness of C.P. Crane LLC's reactive power rate schedule. C.P. Crane LLC, 153 FERC ¶ 61,348 (2015).

The refund effective date in Docket No. EL16-21-000, established pursuant to section 206(b) of the FPA, will be the date of publication of this notice in the Federal Register.

Dated: December 29, 2015.
Nathaniel J. Davis, Sr.,
Deputy Secretary.

[FR Doc. 2015-33124 Filed 1-4-16; 8:45 am]

BILLING CODE 6717-01-P